DEPARTMENT OF COMMERCE

Foreign-Trade Zones Board

[S-21-2015]

Foreign-Trade Zone 119—Minneapolis-St. Paul, Minnesota; Application for Subzone; Red Wing Shoe Company, Inc.; Red Wing, Minnesota

An application has been submitted to the Foreign-Trade Zones Board (the Board) by the Greater Metropolitan Area Foreign Trade Zone Commission, grantee of FTZ 119, requesting subzone status for the facilities of Red Wing Shoe Company, Inc., located in Red Wing, Minnesota. The application was submitted pursuant to the provisions of the Foreign-Trade Zones Act, as amended (19 U.S.C. 81a-81u), and the regulations of the Board (15 CFR part 400). It was formally docketed on February 20, 2015.

The proposed subzone would consist of the following sites in Red Wing: Site 1 (17.11 acres)—4079 Pepin Avenue; Site 2 (21.92 acres)—135 Cannon River Avenue; Site 3 (29.6 acres)—27319 Highway 61 Boulevard; Site 4 (0.6 acres)—2337 Old Zumbrota Street; and, Site 5 (1.873 acres)—127 Main Street. The proposed subzone would be subject to the existing activation limit of FTZ 119. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is April 7, 2015. Rebuttal comments in response to material submitted during the foregoing period may be submitted during the subsequent 15-day period to April 22, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: February 20, 2015.
Andrew McGilvray,
Executive Secretary.

[FR Doc. 2015-04077 Filed 2-25-15; 8:45 am]

BILLING CODE 3510-DS-P